ENVIRONMENTAL PROTECTION AGENCY

[EPA-HQ-OAR-2020-0667; FRL-9854-01-OMS]

Information Collection Request Submitted to OMB for Review and Approval; Comment Request; NSPS for Petroleum Refineries for Which Construction, Reconstruction, or Modification Commenced After May 14, 2007 (Renewal)

AGENCY: Environmental Protection Agency (EPA).

ACTION: Notice.

SUMMARY: The Environmental Protection Agency (EPA) has submitted an information collection request (ICR), NSPS for Petroleum Refineries for which Construction, Reconstruction, or Modification Commenced after May 14, 2007 (EPA ICR Number 2263.07, OMB Control Number 2060-0602), to the Office of Management and Budget (OMB) for review and approval in accordance with the Paperwork Reduction Act. This is a proposed extension of the ICR, which is currently approved through May 31, 2022. Public comments were previously requested, via the Federal Register, on February 8, 2021, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 13, 2022.

ADDRESSES: Submit your comments, referencing Docket ID Number EPA-HQ-OAR-2020-0667, online using https://www.regulations.gov/ (our preferred method), by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Petroleum Refineries for which Construction, Reconstruction, or Modification Commenced after May 14, 2007 (40 CFR part 60 subpart Ja) apply to apply to fluid catalytic cracking units (FCCU), fluid coking units (FCU), delayed coking units, fuel gas combustion devices (FGCD), process heaters, flares and sulfur recovery plants located at new and existing petroleum refineries that are constructed, reconstructed, or modified after May 14, 2007. This information is being collected to assure compliance with 40 CFR part 60, subpart Ja.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Petroleum refineries.

Respondent's obligation to respond: Mandatory (40 CFR part 60, subpart Ja).

Estimated number of respondents: 129 (total).

Frequency of response: Initially, semiannually.

Total estimated burden: 431,000 hours (per year). Burden is defined at 5 CFR 1320.3(b).

Total estimated cost: $171,000,000 (per year), which includes $120,000,000 in annualized capital/startup and/or operation & maintenance costs.

Changes in the Estimates: There is an increase in burden from the most-recently approved ICR as currently identified in the OMB Inventory of Approved Burdens. This increase is due primarily to an increase in the number of facilities at existing petroleum refineries subject to Subpart Ja. The petroleum refining industry has been decreasing in size, but as facilities at refineries are either constructed, modified, or reconstructed, they become newly subject to Subpart Ja. This ICR adjusts the number of facilities at refineries to reflect those sources constructed, modified, or reconstructed over the last three years. Since these newly affected facilities are required to install monitoring equipment to comply with the regulations, this has resulted in increases in capital/startup costs, performance testing costs, and operating and maintenance (O&M) costs, as well as for labor burden associated with periodic testing.

Courtney Kerwin,
Director, Regulatory Support Division.

[FR Doc. 2022-10354 Filed 5-12-22; 8:45 am]

BILLING CODE 6560-50-P